Proclamation 10874 of December 16, 2024

Wright Brothers Day, 2024

By the President of the United States of America

A Proclamation

On Wright Brothers Day, we celebrate the bold vision, steadfast determination, and transformative innovation of Orville and Wilbur Wright. Their aircraft, which completed the first sustained, controlled, and powered flight 121 years ago, forever altered the course of human history and took our Nation to new heights.

The Wright brothers embody the best of America's grit, heart, and unstoppable spirit of ingenuity. Before they took to the skies that fateful December day, the Wright brothers had spent years conducting arduous research, redesigns, and dangerous trials. They were driven by the belief that what so many had written off as impossible could actually be done—that sustained, controlled, and powered flight was possible. And on the sand dunes of Kitty Hawk, North Carolina, on December 17, 1903, they were proven right—their aircraft, the Wright Flyer, took flight for 12 seconds. In less than a minute, that one feat altered our understanding of technological possibilities and human potential forever, laying the foundation for putting a man on the moon; breaking the sound barrier; and beginning a new, deeper exploration of our universe.

My Administration has been committed to building on their legacy of innovation and advancement. We have made improvements to modern air travel—from making airports more accessible through the Bipartisan Infrastructure Law to making air travel safer. And we have harnessed the spirit of American ingenuity in everything we do, like tackling the climate crisis, working toward ending cancer as we know it, and ensuring that the technologies of the future will benefit Americans for generations to come.

On Wright Brothers Day, we honor two visionary men from Dayton, Ohio, who chose to look to the sky with not just wonder but with an ambition to take Americans where no one had gone before. Because of their work, generations of visionary scientists, engineers, and dreamers and doers have followed in their footsteps, believing that, here in America, we do big things and nothing is beyond our capacity.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, JOSEPH R. BIDEN JR., President of the United States of America, do hereby proclaim December 17, 2024, as Wright Brothers Day.

IN WITNESS WHEREOF, I have hereunto set my hand this sixteenth day of December, in the year of our Lord two thousand twenty-four, and of the Independence of the United States of America the two hundred and forty-ninth.

[FR Doc. 2024-30486

Filed 12-18-24; 8:45 am]

Billing code 3395-F4-P